NATIONAL CREDIT UNION ADMINISTRATION

Sunshine Act; Notice of Matters To Be Deleted from the Agenda of a Previously Announced Agency Meeting

Time and Date: 10 a.m., Tuesday, April 21, 2009.

Place: Board Room, 7th Floor, Room 7047, 1775 Duke Street, Alexandria, VA 22314-3428.

Status: Open.

Matter to be Deleted: 1. Final Rule—Part 717, Subpart E, Sections 717.40-717.43, Appendix E of NCUA's Rules and Regulations, Fair Credit Reporting.

2. Advance Notice of Proposed Rulemaking—Part 717, Subpart E, Sections 717.40-717.43, Appendix E of NCUA's Rules and Regulations, Fair Credit Reporting.

FOR FURTHER INFORMATION CONTACT: Mary Rupp, Secretary of the Board, Telephone: 703-518-6304.

Mary Rupp,
Board Secretary.

[FR Doc. E9-9268 Filed 4-17-09; 4:15 pm]

BILLING CODE P